ENVIRONMENTAL PROTECTION AGENCY

[ER-FRL-6680-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 7, 2006 (71 FR 17845).

Draft EISs

EIS No. 20060305, ERP No. D-GSA-B81011-VT, New U.S. Border Station and Commercial Port of Entry Route I-91 Derby Line, Design and Construction, Vermont.

Summary: EPA does not object to the project as proposed, but encourages GSA to consider additional measures to reduce air pollution emissions. Rating LO.

EIS No. 20060316, ERP No. D-GSA-B40096-ME, Madawaska Border Station Project, Replacement of Existing Border Station in Madawaska, International Border between United States and Canada, Aroostook County, ME.

Summary: EPA does not object to the project as proposed, but encourages GSA to adopt measures to reduce air emissions. Rating LO.

EIS No. 20060328, ERP No. D-NRS-B36026-MA, Cape Cod Water Resources Restoration Project, Restore Degraded Salt Marshes, Restore Anadromous Fish Passages, and Improve Water Quality for Shellfishing Area, Cape Cod, Barnstable County, MA.

Summary: EPA does not object to the project as proposed. Rating LO.

EIS No. 20060349, ERP No. D-DOE-E01016-FL, Orlando Gasification Project (DOE/EIS-0383), To Provide Cost-Shared Funding for Construction and Operation of Facilities at Orlando Utilities Commission's Station Energy Center near Orlando, FL.

Summary: EPA expressed environmental concerns about the proposed power plant's potential impacts on air quality, wetlands, hazardous waste, and cumulative impacts. Evaluation of these impacts may require various forms of modeling and risk assessments. Impacts to wetlands and mitigation measures need to be discussed further in the FEIS. Rating EC1.

Final EISs

EIS No. 20060326, ERP No. F-BOP-B81010-NH, Berlin, Coos County, Proposed Federal Correctional Institution, Construction and Operation, City of Berlin, Coos County, NH.

Summary: EPA does not object to the project as proposed, but continues to encourage the BOP to investigate whether combined heat and power technologies could reduce energy usage at the facility.

EIS No. 20060120, ERP No. FB-FTA-L40210-WA, Central Link Light Rail Transit Project (Sound Transit) Construction and Operation of the North Link Light Rail Extension, from Downtown Seattle and Northgate, Updated Information on Refined Design Concepts, Funding, Right-of-Way and U.S. Army COE Section 404 Permits, King County, WA.

Summary: No formal comment letter was sent to the lead agency.

EIS No. 20060370, ERP No. FS-AFS-F65039-WI, McCaslin Project, Vegetation Management Activities that are Consistent with Direction in the Nicolet Forest Plan, New Information to Address Inadequate Disclosure of the Cumulative Effect Analysis for Six Animal and Eight Plant Species, Lakewood/Lasna District, Chequamegaon-Nicolet National Forest, Oconto and Forest Counties, WI.

Summary: EPA's concerns about the cumulative impact analysis have been resolved; therefore, EPA does not object to the proposed project.

Dated: October 24, 2006.
Robert W. Hargrove,
Director, NEPA Compliance Division, Office of Federal Activities.

[FR Doc. E6-18019 Filed 10-26-06; 8:45 am]

BILLING CODE 6560-50-P